DEPARTMENT OF ENERGY

Federal Energy Regulatory Commission

[Docket No. RP00-404-010]

Northern Natural Gas Company; Notice of Compliance Filing

January 2, 2004.

Take notice that on December 23, 2003, Northern Natural Gas Company (Northern), submitted for filing a study covering a recent 24 month period, showing which shippers paid Daily Delivery Variance Charges (DDVCs), how much each shipper paid and the amount of DDVC refund each shipper would have realized if Northern's proposed penalty refund mechanism was already in place. Northern states that it is making this filing in compliance with the Commission's Order in Northern's Order No. 637 proceeding.

Northern further states that copies of the filing have been mailed to each of its customers and interested State Commissions.

Any person desiring to protest said filing should file a protest with the Federal Energy Regulatory Commission, 888 First Street, NE., Washington, DC 20426, in accordance with § 385.211 of the Commission's Rules and Regulations. All such protests must be filed on or before the protest date as shown below. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Protest Date: January 9, 2004.

Linda Mitry,
Acting Secretary.

[FR Doc. E4-20 Filed 1-9-04; 8:45 am]

BILLING CODE 6717-01-P